DEPARTMENT OF JUSTICE

Community Oriented Policing Services; Public Teleconference With the President's Task Force on 21st Century Policing Discussing Final Report

AGENCY: Community Oriented Policing Services, Justice.

ACTION: Notice of meeting.

SUMMARY: On December 18, 2014, President Barack Obama signed an Executive Order titled “Establishment of the President's Task Force on 21st Century Policing” establishing the President's Task Force on 21st Century Policing (“Task Force”). The Task Force seeks to identify best practices and make recommendations to the President on how policing practices can promote effective crime reduction while building public trust and examine, among other issues, how to foster strong, collaborative relationships between local law enforcement and the communities they protect. This publication announces a tentative public teleconference.

The tentative meeting agenda is as follows:

Call to Order

Discussion of Final Report

Conclusion

DATES: The tentative teleconference is Friday, March 27, 2015 from 9:00 a.m. to 5:00 p.m. Eastern Standard Time.

For disability access please call 1-800-888-8888 (TTY users call via Relay).

ADDRESSES: The tentative meeting will be held by teleconference only. To access the conference line, please call 1-866-906-7447 and, when prompted, enter access code 8072024#.

FOR FURTHER INFORMATION CONTACT: Director, Ronald L. Davis, 202-514-4229 or PolicingTaskForce@usdoj.gov.

Address all comments concerning this notice to PolicingTaskForce@usdoj.gov.

SUPPLEMENTARY INFORMATION:

Electronic Access and Filing Addresses

Information on how to provide written comments will be posted to www.cops.usdoj.gov/PolicingTaskForce. Because the schedule is tentative, amendments to this notice will not be published in the Federal Register. However, changes to the schedule will be posted on the Task Force Web site located at www.cops.usdoj.gov/PolicingTaskForce.

Availability of Meeting Materials: The agenda and other materials in support of the teleconference will be available on the Task Force Web site at www.cops.usdoj.gov/PolicingTaskForce in advance of a confirmed teleconference.

Charlotte Grzebien,
General Counsel.

[FR Doc. 2015-05655 Filed 3-11-15; 8:45 a.m.]

BILLING CODE 4410-AT-P